DEPARTMENT OF COMMERCE

International Trade Administration

[A-570-106]

Wooden Cabinet and Vanities and Components Thereof From the People's Republic of China: Final Results and Partial Rescission of the Antidumping Duty Administrative Review; 2019-2021

AGENCY: Enforcement and Compliance, International Trade Administration, Department of Commerce.

SUMMARY: The U.S. Department of Commerce (Commerce) finds that Qufu Xinyu Furniture Co., Ltd. (Qufu Xinyu) did not make sales of subject merchandise at less than normal value (NV) during the period of review (POR) October 9, 2019, through March 31, 2021; Shanghai Beautystar Cabinetry Co., Ltd. (Beautystar) is part of the People's Republic of China (China)-wide entity; and Jiang Su Rongxin Wood Industry Co., Ltd. (Rongxin Wood) is the successor-in-interest to Jiangsu Rongxin Cabinets Co., Ltd. (Rongxin Cabinets).

DATES: Applicable November 9, 2022.

FOR FURTHER INFORMATION CONTACT: Jacob Keller, AD/CVD Operations, Office I, Enforcement and Compliance, International Trade Administration, U.S. Department of Commerce, 1401 Constitution Avenue NW, Washington, DC 20230; telephone: (202) 482-4849.

SUPPLEMENTARY INFORMATION:

Background

On May 6, 2022, Commerce published the Preliminary Results of the administrative review and invited interested parties to comment.¹ For a complete description of the events that occurred since Commerce published the Preliminary Results, see the Issues and Decision Memorandum.² On August 18, 2022, we extended the deadline for these final results to November 2, 2022.³ Commerce conducted this review in accordance with section 751(a) of the Tariff Act of 1930, as amended (the Act).

¹ See Wooden Cabinets and Vanities and Components Thereof From the People's Republic of China: Preliminary Results and Partial Recission of the Antidumping Duty Administrative Review; 2019-2021, 87 FR 27090 (May 6, 2022) (Preliminary Results), and accompanying Preliminary Decision Memorandum (PDM).

² See Memorandum, “Issues and Decision Memorandum: Antidumping Duty Administrative Review ofn Wooden Cabinets and Vanities and Components Thereof From the People's Republic of China; 2019-2021,” dated concurrently with, and hereby adopted by, this notice (Issues and Decision Memorandum).

³ See Memorandum, “Wooden Cabinets and Vanities and Components Thereof of From the People's Republic of China: Extension of Deadline for the Final Results of the Antidumping Duty Administrative Review; 2019-2021,” dated August 18, 2022.

Scope of the Order ⁴

⁴ See Wooden Cabinets and Vanities and Components Thereof From the People's Republic of China: Antidumping Duty Order, 85 FR 22126 (April 21, 2020) (Order).

The products covered by this Order are wooden cabinets and vanities that are for permanent installation (including floor mounted, wall mounted, ceiling hung or by attachment of plumbing), and wooden components thereof. For full description of the scope of the Order, see the Issues and Decision Memorandum.

Analysis of Comments Received

All issues raised in the parties' briefs are addressed in the Issues and Decision Memorandum. A list of the issues addressed is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Separate Rates

Commerce determines that 15 companies, not individually examined, are eligible for separate rates in this administrative review.⁵ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate rate respondents which Commerce did not examine individually in an administrative review. For the final results of this review, Commerce determined the estimated dumping margin for Qufu Xinyu to be zero. For the reasons explained in the Issues and Decision Memorandum, we are assigning this rate to the non-examined respondents which qualify for a separate rate in this review.⁶

⁵ See Appendix II.

⁶ See Issues and Decision Memorandum at Comment 3.

China-Wide Entity

Commerce considers all other companies, listed in Appendix II of this notice, for which a review was requested, and which did not demonstrate separate rate eligibility, to be part of the China-wide entity.

Rescission of Administrative Review

As discussed in the Issues Decision Memorandum, Commerce continues to find that the sale made by Dalian Hualing Wood Co., Ltd. (Hualing) serving as the basis for administrative review is not a bona fide sale of subject merchandise.⁷ Commerce reached this conclusion based on the totality of the record information surrounding Hualing's reported sale, including, but not limited to, the price and quantity of the sale, the timing of the sale, the resale price and profit, and other relevant factors such as the single sale made during the POR, the “specialty” nature of the product, and the likelihood of future sales.⁸

⁷ Id. at Comment 2.

⁸ Id.

Because the non-bona fide sale was the only reported sale of subject merchandise during the POR, we find that Hauling had no reviewable transactions during this POR and is ineligible for an administrative review. Accordingly, we are rescinding this administrative review with respect to Hualing.

In the Preliminary Results, Commerce determined that Rongxin Wood is the successor-in-interest to Rongxin Cabinets.⁹ No interested party commented on this issue, and we did not receive any information to contradict our preliminary finding. Therefore, we continue to find that Rongxin Wood is the successor-in-interest to Rongxin Cabinets. Effective the date of publication of the final results of review, we will instruct U.S. Customs and Border Protection (CBP) to apply the antidumping duty cash deposit rate applicable to Rongxin Cabinets to entries of subject merchandise exported by Rongxin Wood. Based on Rongxin Wood's timely withdrawal of its request for a review, we are rescinding the review with respect to Rongxin Cabinets.¹⁰

⁹ See Preliminary Results PDM at 6-8.

¹⁰ See Rongxin Wood's Letter, “Wooden Cabinets and Vanities and Components Thereof From the People's Republic of China—Withdrawal of Request for Administrative Review,” dated September 8, 2021.

Final Results of Administrative Review

Commerce determines that the following weighted-average dumping margin exists for the administrative review covering the period October 9, 2019, through March 31, 2021:

Exporter | Weighted- average dumping margin (percent)
Qufu Xinyu Furniture Co., Ltd | 0.00
Non-Selected Companies Under Review Receiving a Separate Rate ¹¹ | 0.00

Disclosure

¹¹ See Appendix II.

Normally, Commerce discloses to the parties in a proceeding the calculations performed in connection with a final results of review in accordance with 19 CFR 351.224(b). However, because Commerce made no adjustments to the margin calculation methodology used in the Preliminary Results, there are no calculations to disclose for the final results of review.

Assessment Rates

Pursuant to section 751(a)(2)(C) of the Act and 19 CFR 351.212(b), Commerce has determined, and CBP shall assess, antidumping duties on all appropriate entries of subject merchandise in accordance with these final results of review. Commerce intends to issue assessment instructions to CBP no earlier than 35 days after the date of publication of the final results of review in the Federal Register. If a timely summons is filed at the U.S. Court of International Trade, the assessment instructions will direct CBP not to liquidate relevant entries until the time for parties to file a request for a statutory injunction has expired (i.e., within 90 days of publication).

For Qufu Xinyu, and the respondents which were not selected for individual examination in this administrative review, and which qualified for a separate rate, we will instruct CBP to liquidate the appropriate entries without regard to antidumping duties. For the companies listed in Appendix II, identified as part of the China-wide entity, we will instruct CBP to apply an antidumping duty assessment rate of 251.64 percent (the rate applicable to the China-wide entity) to all entries of subject merchandise during the POR exported by those companies.¹²

¹² See Wooden Cabinets and Vanities and Components Thereof from the People's Republic of China: Antidumping Duty Order, 85 FR 22126 (April 21, 2020) (Order).

Cash Deposit Requirements

The following cash deposit requirements will be effective upon publication of the final results of this review for shipments of the subject merchandise from China entered, or withdrawn from warehouse, for consumption on or after the publication date, as provided by sections 751(a)(2)(C) of the Act: (1) for subject merchandise exported by the companies listed above that have separate rates, the cash deposit rate will be the rate established in these final results of review for each exporter as listed above; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f) to file a certificate regarding the reimbursement of antidumping and/or countervailing duties prior to liquidation of the relevant entries during this review period. Failure to comply with this requirement could result in the Secretary's presumption that reimbursement of antidumping and/or countervailing duties occurred and the subsequent assessment of double antidumping duties.

Administrative Protective Order

This notice also serves as a reminder to parties subject to an administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a sanctionable violation.

Notification to Interested Parties

We are issuing and publishing these final results of review in accordance with sections 751(a)(l), 751(a)(2)(B), and 777(i) of the Act.

Dated: November 2, 2022.
Lisa W. Wang,
Assistant Secretary for Enforcement and Compliance.

Appendix I

List of Topics Discussed in the Issues and Decision Memorandum

I. Summary

II. Background

III. Scope of the Order

IV. Discussions of the Issues

Comment 1: Whether Commerce's Bona Fides Sales Analysis is Lawful

Comment 2: Whether Dalian Hualing Wood Co., Ltd. (Hualing) Made a Bona Fide Sale

Comment 3: Selection of Surrogate Country

Comment 4: Whether Beautystar is Eligible for a Separate Rate

Comment 5: Calculation of the Separate Rate

Comment 6: Whether Commerce Should Rescind the Review for Certain Companies

Comment 7: Whether Dalian Meisen Woodworking Co., Ltd. (Meisen) is Eligible for a Separate Rate

V. Recommendation

Appendix II

Companies Considered To Be Part of the China-Wide Entity

1. Deqing Meisheng Import and Export Co., Ltd.

2. Fuzhou Pyrashine Trading Co., Ltd.

3. Jiang Su Rongxin Import and Export Co., Ltd.

4. Linshu Meibang Furniture Co., Ltd.

5. Shanghai Beautystar Cabinetry Co., Ltd.

6. Shanghai Zifeng Industries Development Co., Ltd.

7. ZBOM Cabinets Co., Ltd.

8. Zhongshan KM Cabinetry Co., Ltd.

Non-Selected Companies Under Review Receiving a Separate Rate

1. Dalian Meisen Woodworking Co., Ltd.

2. Fujian Dushi Wooden Industry Co., Ltd.

3. Guangzhou Nuolande Import and Export Co., Ltd.

4. Jiangsu Xiangsheng Bedtime Furniture Co., Ltd.

5. KM Cabinetry Co., Ltd.

6. Linyi Bomei Furniture Co., Ltd.

7. Nantong Aershin Cabinets Co., Ltd.

8. Senke Manufacturing Company

9. Shandong Longsen Woods Co., Ltd.

10. Shenzhen Pengchengzhirong Trade Co., Ltd.

11. Shouguang Fushi Wood Co., Ltd.

12. Suzhou Siemo Wood Import & Export Co., Ltd.

13. Taishan Oversea Trading Company Ltd.

14. Zhangzhou OCA Furniture Co., Ltd.

15. Zhoushan For-strong Wood Co., Ltd.

[FR Doc. 2022-24465 Filed 11-8-22; 8:45 am]

BILLING CODE 3510-DS-P